GENERAL SERVICES ADMINISTRATION

[Notice: MVA-2014-01; Docket 2014-0002; Sequence 24]

Discontinuance of the Looseleaf Version of the General Services Administration Acquisition Manual (GSAM)

AGENCY: Office of Acquisition Policy, Office of Government-wide Policy, General Services Administration (GSA).

ACTION: Notice.

SUMMARY: As part of GSA's effort to increase efficiency and promote environmental sustainability, the Office of Government-wide Policy (OGP) has determined that it will no longer produce the looseleaf version of the General Services Administration Acquisition Manual (GSAM).

DATES: Effective: August 11, 2014.

FOR FURTHER INFORMATION CONTACT: For clarification of content, contact Mr. Nicholas West of the Office of Government-wide Policy at 703-605-2834.

SUPPLEMENTARY INFORMATION:

A. Background

Looseleaf pages of the GSAM were originally made available at a time when it was the only means to view a change to the regulation in comparison with the existing text until the publication of the next volume of Title 48 of the Code of Regulations (48 CFR, Chapter 5) on the following October 1. Patrons who maintained the regulations in looseleaf could purchase subscriptions from the Government Printing Office (GPO) and when any change to the GSAM occurred; they would be sent the new pages. At best, it could be weeks and even months before patrons would receive the latest changes. With the coming of new technology, GSA began producing these pages and sending them to patrons electronically.

Because of today's technologies, those who follow the GSAM can view and print the latest changes on the day the changes are published in the Federal Register. Through the years, GSA continued to produce the looseleaf pages for these changes although the need for them has become almost nonexistent. GSA has come to the conclusion that the time that it takes to produce the pages for information already available is not an efficient use of government resources and has decided to discontinue the production of the looseleaf versions of the GSAM immediately. In addition, printing updated pages for those maintaining looseleaf binders of the regulations will no longer be necessary, which supports environmental sustainability.

B. Procedures

The GSAM and related documents can be found at gsa.gov/gsam.

Dated: August 6, 2014.
Jeffrey Koses,
Senior Procurement Executive, Office of Acquisition Policy, Office of Government-wide Policy.

[FR Doc. 2014-18918 Filed 8-8-14; 8:45 am]

BILLING CODE 6820-61-P